DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on September 22, 2010 from 8 a.m. to 5 p.m. ET. The agenda is subject to change as priorities dictate.

ADDRESSES: Washington, DC Metro Area. The venue details will be posted on the NBSB webpage at http://www.phe.gov/Preparedness/legal/boards/nbsb/Pages/default.aspx as they become available.

FOR FURTHER INFORMATION CONTACT: E-mail: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: A portion of this public meeting will be dedicated to a report and presentation by the Disaster Mental Health Subcommittee to the NBSB on their assessment of the Department of Health and Human Services' progress to better integrate behavioral health into emergency preparedness and response activities. Subsequent agenda topics will be added as priorities dictate.

Availability of Materials: The meeting agenda and materials will be posted on the NBSB Web site at http://www.phe.gov/Preparedness/legal/boards/nbsb/Pages/default.aspx prior to the meeting.

Procedures for Providing Public Input: Any member of the public providing oral comments at the meeting must sign in at the registration desk and provide his/her name, address, and affiliation. All written comments must be received prior to September 21, and should be sent by e-mail to NBSB@HHS.GOV with “NBSB Public Comment” as the subject line. Individuals who plan to attend and need special assistance, such as sign language interpretation or other reasonable accommodations, should e-mail NBSB@HHS.GOV.

Dated: August 10, 2010.
Nicole Lurie,
Assistant Secretary for Preparedness and Response.

[FR Doc. 2010-21504 Filed 8-27-10; 8:45 am]

BILLING CODE 4150-37-P